DEPARTMENT OF TRANSPORTATION

Office of the Secretary

Aircraft Accident Liability Insurance; Notice of Request for Extension of a Previously Approved Collection

AGENCY: Office of the Secretary, DOT.

ACTION: Notice and request for comments.

SUMMARY: In accordance with the Paperwork Reduction Act of 1995 (44 U.S.C. Chapter 35, as amended), this notice announces the Department of Transportation's (DOT) intention to request the extension of a previously approved collection.

DATES: Comments on this notice must be received by November 13, 2000.

ADDRESSES: Comments should be directed to the Air Carrier Fitness Division (X-56), Office of Aviation Analysis, Office of the Secretary, US Department of Transportation, 400 Seventh Street, SW., Washington, DC 20590.

FOR FURTHER INFORMATION CONTACT: Delores King, Air Carrier Fitness Division (X-56), Office of Aviation Analysis, Office of the Secretary, US Department of Transportation, 400 Seventh Street, SW., Washington, DC 20590, (202) 366-2343.

SUPPLEMENTARY INFORMATION: Title: Aircraft Accident Liability Insurance.

OMB Control Number: 2106-0030.

Expiration Date: February 28, 2001.

Type of Request: Extension of a previously approved collection.

Abstract: 14 CFR part 205 contains the minimum requirements for air carrier accident liability insurance to protect the public from losses, and directs that certificates evidencing appropriate coverage must be filed with the Department.

Respondents: U.S. and foreign air carriers.

Estimated Number of Respondents: 4,270 (avg. 1.3 responses per respondent per year).

Average Annual Burden Per Respondent: .67 hour (.5 hour per response).

Estimated Total Burden on Respondents: 2,762.5 hours.

This information collection is available for inspection at the Air Carrier Fitness Division (X-56), Office of Aviation Analysis, DOT, at the address above. Copies of 14 CFR part 205 can be obtained from Ms. Delores King at the address and telephone number shown above.

Comments are invited on: (a) Whether the proposed collection of information is necessary for the proper performance of the functions of the Department, including whether the information will have practical utility; (b) the accuracy of the Department's estimate of the burden of the proposed information collection; (c) ways to enhance the quality, utility, and clarity of the information to be collected; and (d) ways to minimize the burden of the collection of information on respondents, including the use of automated collection techniques or other forms of information technology.

All responses to this notice, will be summarized and included in the request for OMB approval. All comments will also become a matter of public record.

Issued in Washington, DC on September 7, 2000.
Randall D. Bennett,
Acting Director, Office of Aviation Analysis.

[FR Doc. 00-23403 Filed 9-11-00; 8:45 am]

BILLING CODE 4910-62-P